DEPARTMENT OF ENERGY

Federal Energy Regulatory Commission

[Docket No. DI18-3-000]

Notice Denying Late Intervention; Renewable Energy Aggregators Inc.

On March 29, 2018, the Commission issued public notice of Merchant Hydro Developers LLC's ¹ Declaration of Intention concerning the proposed Vandling Drift Reclamation Pump Storage Project, to be located near the City of Vandling in Wayne County, Pennsylvania. The notice established April 30, 2018, as the deadline to file motions to intervene.² On May 14, 2018, the Delaware Riverkeeper Network (Delaware Riverkeeper) filed an out-of-time motion to intervene.

¹ On May 10, 2018, Merchant Hydro Developers, LLC notified the Commission that it had changed its name to Renewable Energy Aggregators Inc.

² The Commission's Rules of Practice and Procedure provide that, if a filing deadline falls on a Saturday, Sunday, holiday, or other day when the Commission is not open for business, the filing deadline does not end until the close of business on the next business day. 18 CFR 385.2007(a)(2) (2017). The filing deadline was 30 days from issuance of the notice (i.e., April 28, 2018), which fell on a Saturday, thus the filing deadline was the close of business on Monday, April 30, 2018.

In determining whether to grant a late motion to intervene, the Commission may consider such factors as whether the movant had good cause for filing late; whether the movant's interest is adequately represented by other parties to the proceeding; and whether granting the intervention might result in disruption to the proceeding or prejudice to other parties.³ Movants for late intervention must, among other things, demonstrate good cause why the time limit should be waived.⁴

³ Id. 385.214(d).

⁴ Id. 385.214(b)(3).

Here, Delaware Riverkeeper failed to demonstrate that good cause exists to grant its motion to intervene out of time. In its motion, Delaware Riverkeeper provides no explanation as to why it was unable to intervene in a timely manner or why good cause exists to waive the time limit. Therefore, Delaware Riverkeeper's motion to intervene is denied.

This notice constitutes final agency action. Requests for rehearing of this notice must be filed within 30 days of the date of issuance of this notice, pursuant to section 313(a) of the Federal Power Act, 16 U.S.C. 825l(a) (2012), and Rule 713 of the Commission's Rules of Practice and Procedure, 18 CFR 385.713 (2017).

Dated: May 16, 2018.
Kimberly D. Bose,
Secretary.

[FR Doc. 2018-11041 Filed 5-22-18; 8:45 am]

BILLING CODE 6717-01-P